FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 002865NF.

Name: Aces, Ltd.

Address: 114 Front Street, Scituate, MA 02066.

Date Revoked: December, 27, 2005.

Reason: Surrendered license voluntarily.

License Number: 004337F.

Name: Air-Land & Sea Transport, Inc. dba Celestial Navigation.

Address: 3000 Wilcrest, Suite 350, Houston, TX 77042.

Date Revoked: January 15, 2006.

Reason: Failed to maintain a valid bond.

License Number: 002346F.

Name: All Shore Forwarders, Ltd.

Address: 159 West 33rd Street, New York, NY 10001.

Date Revoked: January 15, 2006.

Reason: Failed to maintain a valid bond.

License Number: 003709F.

Name: Amano U.S.A. Corporation.

Address: 1140 East Sandhill Avenue, Carson, CA 90746.

Date Revoked: January 30, 2006.

Reason: Surrendered license voluntarily.

License Number: 004529F.

Name: Cargo U.K. Inc.

Address: 4790 Aviation Parkway, Atlanta, GA 30349.

Date Revoked: January 15, 2006.

Reason: Failed to maintain a valid bond.

License Number: 001771F.

Name: Chris T. Banis

Address: 35 Greenwood Avenue, San Francisco, CA 94112

Date Revoked: November 28, 2005.

Reason: Surrendered license voluntarily.

License Number: 001694F.

Name: Constant Shipping Corporation

Address: 431 North Post Oak Lane, Houston, TX 77024

Date Revoked: January 15, 2006.

Reason: Failed to maintain a valid bond.

License Number: 004166F.

Name: Fabius & Co. Export, Inc.

Address: 181 Hudson Street, New York, NY 10013.

Date Revoked: January 15, 2006.

Reason: Surrendered license voluntarily.

License Number: 016426N.

Name: First Express International Corp.

Address: First Bldg., 394-44, Seogyo-Dong, Mapo-Ku, Seoul 212-840, Korea.

Date Revoked: October 28, 2005.

Reason: Surrendered license voluntarily.

License Number: 001728F.

Name: I.M.S., Inc. dba International Moving Service.

Address: 4412-4414 Wheeler Avenue, Alexandria, VA 22304.

Date Revoked: February 11, 2006.

Reason: Failed to maintain a valid bond.

License Number: 003892F.

Name: Josephine D. Mima-Saito.

Address: 29360 N. Begonias Lane, Canyon Country, CA 91351.

Date Revoked: January 15, 2006.

Reason: Failed to maintain a valid bond.

License Number: 019303F.

Name: LTR Associated Enterprises, Inc. dba RC Export Packers.

Address: P.O. Box 6670, Orange, CA 92863-6670.

Date Revoked: January 15, 2006.

Reason: Surrendered license voluntarily.

License Number: 002827F.

Name: Raymond Express Corporation dba Raymond Express International.

Address: 320 Harbor Way, So. San Francisco, CA 94080.

Date Revoked: January 15, 2006.

Reason: Failed to maintain a valid bond.

License Number: 002419F.

Name: San Pedro, Pacifico D. dba St. Peter Shipping Co.

Address: 55 New Montgomery St., Suite 526, San Francisco, CA 94105.

Date Revoked: January 15, 2006.

Reason: Failed to maintain a valid bond.

License Number: 011365F.

Name: Seawinds Freight Services, Inc.

Address: 601 S. Airport Blvd., Unit B, So. San Francisco, CA 94080.

Date Revoked: January 15, 2006.

Reason: Failed to maintain a valid bond.

License Number: 002890F.

Name: Sunrise Cargo Services, Inc.

Address: 7392 NW 35th Terrace, Suite 205, Miami, FL 33122.

Date Revoked: January 21, 2006.

Reason: Failed to maintain a valid bond.

License Number: 003556F.

Name: Tampa International Forwarding, Inc.

Address: 2701 North Himes Ave., Suite 104, Tampa, FL 33807.

Date Revoked: January 15, 2006.

Reason: Failed to maintain a valid bond.

License Number: 002704F.

Name: Traffic Marketing Development Services, U.S.A., Inc. dba TMD U.S.A.

Address: 7 Howell Drive, Smithtown, NY 11787.

Date Revoked: January 15, 2006.

Reason: Failed to maintain a valid bond.

License Number: 003636N.

Name: World Connections, Inc.

Address: 8380 Isis Ave., Los Angeles, CA 90045.

Date Revoked: January 5, 2006.

Reason: Failed to maintain a valid bond.

Peter J. King,
Deputy Director, Bureau of Certification and Licensing.

[FR Doc. E6-3755 Filed 3-14-06; 8:45 am]

BILLING CODE 6730-01-P